DEPARTMENT OF TRANSPORTATION

Pipeline and Hazardous Materials Safety Administration

[Docket ID PHMSA-2011-0295]

Pipeline Safety: Emergency Responder Forum

AGENCY: Pipeline and Hazardous Materials Safety Administration (PHMSA), DOT.

ACTION: Notice of Forum.

SUMMARY: PHMSA is co-sponsoring a one-day Emergency Responder Forum with the National Association of Pipeline Safety Representatives and the United States Fire Administration. The purpose of the forum is to convene a meeting of emergency response and management community leaders, pipeline safety regulators, pipeline industry representatives, and interested members of the public to solicit expert counsel that will inform the development of a strategy for improving emergency responders' ability to prepare for and respond to natural gas and hazardous liquid pipeline emergencies.

DATES: The forum will be held on December 9, 2011. Name badge pick up and on-site registration will be available starting at 7 a.m., with the forum taking place from 8 a.m. until approximately 5:30 p.m. eastern time. A webcast of the proceedings will be available. Pre-registration for the forum is available until December 2, 2011, at the meeting Web site at https://primis.phmsa.dot.gov/meetings/MtgHome.mtg?mtg=74. Also refer to the meeting Web site for information about the preliminary agenda and the webcast.

ADDRESSES: The workshop will be held at U.S. Department of Transportation, 1200 New Jersey Avenue SE., Washington, DC 20590 in the atrium of the west building (New Jersey Avenue entrance, across the street from the Navy Yard Metro station). Attendees should arrive early to allow for time to go through security.

A block of hotel rooms has been reserved at Courtyard by Marriott Capitol Hill/Navy Yard, (866) 329-0003. Hotel reservations must be made on or before November 17, 2011, to receive a rate of $183 for the nights of December 8 and 9, 2011. Mention “Emergency Responder Forum Room Block” for the U.S. Department of Transportation when you make your reservation to receive this rate. Please call the hotel for more information on the Americans with Disabilities Act amenities at this location.

FOR FURTHER INFORMATION CONTACT: Sam Hall at (804) 556-4678 or by email at sam.hall@dot.gov.

SUPPLEMENTARY INFORMATION:

Registration: Members of the public may attend this free forum. To help ensure that adequate arrangements are made, all attendees and webcast viewers are encouraged to pre-register for the forum at https://primis.phmsa.dot.gov/meetings/MtgHome.mtg?mtg=74. Hotel reservations must be made by contacting the hotel directly.

Comments: Members of the public may also submit written comments, either before or after the workshop. Comments should reference Docket ID PHMSA-2011-0295. Comments may be submitted in the following ways:

• E-Gov Web Site: http://www.regulations.gov. This site allows the public to enter comments on any Federal Register notice issued by any agency. Follow the instructions for submitting comments.

• Fax: 1-202-493-2251.

• Mail: Docket Management System, U.S. Department of Transportation, 1200 New Jersey Avenue SE., Room W12-140, Washington, DC 20590.

• Hand Delivery: U.S. Department of Transportation, Docket Management System, Room W12-140, on the ground floor of the West Building, 1200 New Jersey Avenue SE., Washington, DC between 9 a.m. and 5 p.m., Monday through Friday, except Federal holidays.

• Instructions: Identify the Docket ID PHMSA-2011-0295 at the beginning of your comments. If you submit your comments by mail, submit two copies. If you wish to receive confirmation that PHMSA has received your comments, include a self-addressed stamped postcard. Internet users may submit comments at http://www.regulations.gov.

Note: Comments will be posted without changes or edits to http://www.regulations.gov including any personal information provided. Please see the Privacy Act heading below for additional information.

• Privacy Act Statement: Anyone may search the electronic form of all comments received for any of our dockets. The Privacy Notice for comment submissions may be reviewed at http://www.regulations.gov. You may review DOT's complete Privacy Act Statement in the Federal Register published April 11, 2000 (65 FR 19477) or you may visit http://DocketsInfo.dot.gov.

Information on Services for Individuals with Disabilities: For information on facilities or services for individuals with disabilities, or to request special assistance at the meeting, please contact Sam Hall at (804) 556-4678 or sam.hall@dot.gov by December 2, 2011.

Issued in Washington, DC, on November 2, 2011.
Jeffrey D. Wiese,
Associate Administrator for Pipeline Safety.

[FR Doc. 2011-28791 Filed 11-4-11; 8:45 am]

BILLING CODE 4910-60-P